DEPARTMENT OF THE TREASURY

Alcohol and Tobacco Tax and Trade Bureau

27 CFR Parts 4, 5, 7, 24, 25, and 27

[Docket Nos. TTB-2025-0002 and TTB-2025-0003; Notice No. 239; Re: Notice Nos. 237 and 238]

RINs: 1513-AC93 and 1513-AC94

Alcohol Facts Statements in the Labeling of Wines, Distilled Spirits, and Malt Beverages; and Major Food Allergen Labeling for Wines, Distilled Spirits, and Malt Beverages; Comment Period Extension

AGENCY: Alcohol and Tobacco Tax and Trade Bureau, Treasury.

ACTION: Notices of proposed rulemaking; extension of comment periods.

SUMMARY: The Alcohol and Tobacco Tax and Trade Bureau (TTB) is extending for an additional 120 days the comment periods for two notices of proposed rulemaking it published on January 17, 2025. The first proposes to require disclosure of per-serving alcohol, calorie, and nutrient content information in an “Alcohol Facts” statement on the labels of alcohol beverages subject to the authority of the Federal Alcohol Administration Act (FAA Act) (Notice No. 237), while the second proposes to require labeling of major food allergens used in the production of alcohol beverages on such labels (Notice No. 238). TTB is taking this action to provide additional time for public comments in response to requests received during the comment period.

DATES: For the notices of proposed rulemaking published on January 17, 2025, as Notice No. 237 and Notice No. 238 at 90 FR 6654 and 5763, respectively, comments are now due on or before August 15, 2025.

ADDRESSES: You may electronically submit comments to TTB on the two notices of proposed rulemaking published as Notice No. 237 and Notice No. 238, view copies of this comment period extension document (published as Notice No. 239), the original proposed rule documents, their supporting materials, and any comments TTB receives on those proposals within their respective dockets, Docket No. TTB-2025-0002 and Docket No. TTB-2025-0003, as posted at https://www.regulations.gov. Direct links to the relevant dockets are available on the TTB website at https://www.ttb.gov/laws-and-regulations/all-rulemaking under Notice No. 237 and Notice No. 238. Alternatively, you may submit comments via postal mail to the Director, Regulations and Ruling Division, Alcohol and Tobacco Tax and Trade Bureau, 1310 G Street NW, Box 12, Washington, DC 20005. Please see the Public Participation sections of Notice No. 237 and Notice No. 238 for further information on the comments requested regarding each proposal and on the submission, confidentiality, and public disclosure of comments.

FOR FURTHER INFORMATION CONTACT: Curt Eilers, Regulations and Rulings Division, Alcohol and Tobacco Tax and Trade Bureau, 1310 G Street NW, Box 12, Washington, DC 20005; telephone 202-453-1039, ext. 041.

SUPPLEMENTARY INFORMATION: The Alcohol and Tobacco Tax and Trade Bureau (TTB) published two notices of proposed rulemaking related to alcohol beverage labeling in the Federal Register of January 17, 2025:

• Notice No. 237—Alcohol Facts Statements in the Labeling of Wines, Distilled Spirits, and Malt Beverages (90 FR 6654; Docket No. TTB-2025-0002; RIN 1513-AC93); and

• Notice No. 238—Major Food Allergen Labeling for Wines, Distilled Spirits, and Malt Beverages (90 FR 5763; Docket No. TTB-2025-0003; RIN 1513-AC94).

In Notice No. 237, TTB proposes to require disclosure of per-serving alcohol, calorie, and nutrient content information in an “Alcohol Facts” statement on all alcohol beverage labels subject to TTB's regulatory authority under the Federal Alcohol Administration Act (FAA Act). Pursuant to its authorities under both the FAA Act and the Internal Revenue Code of 1986, TTB is also proposing mandatory alcohol content statements for certain types of beer and wine that are not currently required to be labeled with an alcohol content statement.

In Notice No. 238, TTB proposes to require a labeling disclosure of all major food allergens used in the production of alcohol beverages subject to TTB's regulatory authority under the FAA Act. Under the proposed regulations, unless an exception applies, labels must declare milk, eggs, fish, Crustacean shellfish, tree nuts, wheat, peanuts, soybeans, and sesame, as well as ingredients that contain protein derived from these foods, if used in the production of the alcohol beverage.

Both proposals included a compliance date of 5 years from the date that a final rule resulting from the proposal is published in the Federal Register.

As originally published, the comment period closing date for both Notice No. 237 and Notice No. 238 was April 17, 2025.

TTB has received joint requests from nine alcohol industry trade associations to extend the comment periods for Notice No. 237 and Notice No. 238 for an additional 120 days, until August 15, 2025. The nine associations supporting the two requests are the Wine Institute, Distilled Spirits Council of the United States (DISCUS), Beer Institute, Brewers Association, National Beer Wholesalers Association (NBWA), Wine and Spirits Wholesalers of America (WSWA), WineAmerica, American Craft Spirits Association (ACSA), and American Distilled Spirits Alliance (ADSA). For Notice No. 237, the request is posted as Comment 54, and for Notice No. 238, the request is posted as Comment 39; see Docket No. TTB-2025-0002 and Docket No. TTB-2025-0003, respectively, at https://www.regulations.gov.

In their requests, the nine associations state that they and their members need more time to comment. The requests note that many potentially impactful rulemakings, including a Food and Drug Administration nutrition labeling proposal, were published during the same period and that their members, particularly small and midsize businesses, will need time to evaluate those proposals and to better understand the new administration's priorities, expectations, and directives. The requests also note the length of the two TTB proposed rules and the scope and importance of the issues, saying that industry members “will need substantial time” to deliberate on and convey their input on the issues raised in order to provide useful feedback to TTB that will benefit the rulemaking process and the agency's objectives in the two rulemakings.

In response to the requests, TTB will now accept public comments on Notice No. 237 and Notice No. 238 through August 15, 2025. As described in the ADDRESSES section of this document, see Notice No. 237 and Notice No. 238 for complete information on the specific issues and questions on which TTB is seeking comment, as well as information on how to submit comments electronically or by postal mail, and on the confidentiality and public disclosure of any submitted comments.

Dated: March 27, 2025.
Mary G. Ryan,
Administrator.

[FR Doc. 2025-05920 Filed 4-4-25; 8:45 am]

BILLING CODE 4810-31-P